DEPARTMENT OF COMMERCE

National Oceanic and Atmospheric Administration

50 CFR Part 660

[I.D. 020900B]

Western Pacific Fishery Management Council; Public Meeting

AGENCY: National Marine Fisheries Service (NMFS), National Oceanic and Atmospheric Administration (NOAA), Commerce.

ACTION: Notice of public meeting; public scoping hearings; public hearing.

SUMMARY: The Western Pacific Fishery Management Council will hold its 102nd meeting in Honolulu, HI. A public hearing will be held on alternatives for managing sharks and creating area closures in American Samoa. These measures will be implemented by amendments to the Fishery Management Plan for the Pelagic Fisheries of the Western Pacific Region (Pelagics FMP). A public scoping hearing will be held on the intent to prepare an Environmental Impact Statement (EIS) for the Fishery Management Plan for the Precious Corals Fisheries of the Western Pacific Region (Precious Corals FMP).

DATES: The Council's Standing Committees will meet on February 28, 2000. The full Council meeting will be held on February 29, 2000 and March 1, and 2, 2000. The public hearings will be held on March 1 and 2, 2000. See SUPPLEMENTARY INFORMATION for specific dates and times for these meetings and hearings.

ADDRESSES: The Council meeting will be held at the Hibiscus Ballroom I at the Ala Moana Hotel, 410 Atkinson Drive, Honolulu, HI 96814; telephone: 808-955-4811.

Council address: Western Pacific Fishery Management Council, 1164 Bishop St., Suite 1400, Honolulu, HI, 96813.

FOR FURTHER INFORMATION CONTACT: Kitty M. Simonds, Executive Director; telephone: 808-522-8220.

SUPPLEMENTARY INFORMATION:

Dates and Times

Committee Meetings

The following Council's Standing Committees will meet on February 28, 2000. Enforcement/Vessel Monitoring System (VMS) (including meeting with industry) from 7:30 a.m. to 9:30 a.m.; International Fisheries/Pelagics from 9:30 a.m. to 11:30 a.m.; Bottomfish, Crustaceans, and Ecosystem & Habitat from 1:00 p.m. to 3:00 p.m.; Native and Indigenous Rights from 3:00 p.m. to 4:00 p.m; Precious Corals from 3:00 p.m. to 4:00 p.m.; and Executive/Budget and Program from 4:00 p.m. to 6:00 p.m.

Full Council meeting

The full Council will meet on February 29, and March 1-2, 2000, from 8:30 a.m. to 5:00 p.m., each day.

Public Hearings

The public hearing on shark management options and area closures around American Samoa will be held on Wednesday, March 1, 2000, at 4:00 p.m. The scoping hearing to add the Commonwealth of the Northern Mariana Islands (CNMI) and the Pacific Remote Island Areas (PRIA) to the Fishery Management Plan for the Bottomfish Fisheries of the Western Pacific Region (Bottomfish FMP) will be held on March 2, 2000, at 9:30 a.m.The scoping hearing to add the CNMI and the PRIA to the Fishery Management Plan for the Crustacean Fisheries of the Western Pacific Region (Crustacean FMP) will be held on Thursday, March 2, 2000, at 4:00 p.m. The scoping hearing on the intent to prepare an EIS and to add the CNMI and the PRIA to the Precious Corals FMP will

Agenda

The agenda during the full Council meeting will include the items below. The order in which agenda items are addressed may change. The Council will meet as late as necessary to complete scheduled business.

1. Introductions

2. Approval of Agenda

3. Approval of 101st Meeting Minutes

4. Island Reports

A. American Samoa

B. Guam

C. Hawaii

D. Commonwealth of the Northern Mariana Islands (CNMI)

5. Fishery Agency and Organization Reports

A. DOC

(1) NMFS

(a) Southwest Region, Pacific Island Area Office

(b) Southwest Fisheries Science Center La Jolla and Honolulu Laboratories

(2) NOAA General Counsel, Southwest Region

B. Department of the Interior, Fish and Wildlife Service (FWS)

6. Enforcement

A. U.S. Coast Guard (USCG) activities

B. NMFS activities

C. Cooperative agreements for Guam/CNMI

D. Status of violations

7. VMS

A. Regional VMS report

B. National VMS efforts

C. Report on FFA VMS program

8. Ecosystems and Habitat

A. Draft Coral Reef Ecosystem FMP/Preliminary DEIS

(1) Review of Council's preferred alternative

(a) fishing permit and reporting

(b) restriction of gear and methods

(c) marine protected areas

(d) framework provision

(e) process for Plan Team (PT) coordination

(2) Review of comments from region-wide public meetings

(3) Federal initiatives

(a) Congressional coral reef bills

(b) U.S. Coral Reef Task Force action plan

(4) Agency research plans for coral reefs

B. Northwestern Hawaiian Islands (NWHI)

(1) Concerns regarding existing fisheries

(a) status of monk seals

(b) Marine Mammal Commission

(c) Monk Seal Recovery Team

(d) agencies:

(1) NMFS

(2) Coral Reef Task Force

(3) FWS

(4) Hawaii Department of Land and Natural Resources (HDLNR)

(5) U.S. Navy/USCG

2. Hawaii advisory body recommendations

(a) Coral Reef Ecosystem PT

(b) Ecosystem and Habitat Advisory Panel (AP)

(c) Bottomfish PT/AP

(d) Crustacean PT/AP

(e) Precious Corals PT/AP

9. Fishery Rights of Indigenous People

A. Status of Marine Conservation Plans (MCPs)

B. Status of eligibility criteria for Community Development Program CDP and Demonstration Projects

C. Limited entry permits for CDP

10. Pelagic Fisheries

A. 3rd and 4th quarters 1999 Hawaii and American Samoa longline fishery reports

B. American Samoa, Framework measure (see agenda item under 10.H)

The Council will hold a public hearing and take final action on a framework measure under the Pelagics FMP to implement a closed area for pelagic fishing vessels around the islands of American Samoa. In December 1997, at its 94th meeting, the Council voted to recommend a closed area from which large (greater than 50 ft (15.24 m)) pelagic fishing vessels would be excluded to protect the small vessel longline fishery in American Samoa. That proposed revision was adopted under the two meeting framework process. That measure would have established a 50- nautical mile (nm) closure to pelagic fishing vessels larger than 50 ft (15.24 m) around Tutuila and Manua Islands, and a 30-nm closure around Swains Island. The recommended closure was sent to the NMFS Southwest Regional Administrator in October 1998 but was disapproved in March 1999, with the advice that it could be revised to include greater justification for closed areas under National Standard 8 of the Magnuson-Stevens Fishery Conservation and Management Act (Magnuson-Stevens Act).

Subsequently, a revised draft of the framework measure has been drafted which includes a preferred alternative which would implement a 50-nm closure to pelagic fishing vessels larger than 50 ft (15.24 m) around Tutuila and Manua Islands, and a 30-nm closure around Swains Island. A copy of the draft document is available from the Council office.

(2) MCP

C. Shark management

(1) Shark catch and disposition in 1999 in Hawaii longline fishery

(2) Blue shark stock assessment

(3) Report of cultural study of sharks and shark finning in the western Pacific region

(4) National Plan of Action-Sharks

(5) Proposals for shark management

(6) Pelagics FMP amendment for shark management

D. Seabird interactions in the Hawaii longline fishery

(1) Status of amendment

(2) Biological opinion

(3) National Plan of Action-Seabirds

E. Turtle management

(1) Imposition of longline closed area north of Hawaii

(2) Status of lawsuit

F. International

(1) Multilateral High Level Conference 6

(2) International Pelagic Shark Workshop

G. National Plan of Action-Fishing Capacity

H. Public hearing, shark management options

At its 101st Meeting, the Council voted to take action on the retention of sharks by the Hawaii longline fishery by setting an annual fleetwide harvest guideline (quota) of 50,000 sharks through an amendment to the Pelagics FMP. The need for a quota was generated by concerns about the level of blue shark mortality in the Hawaii-based longline fishery, since virtually all the shark catch comprises blue shark and the level of retention had risen from less than 14,000 in 1993 to 60,000 in 1998. The same amendment will also develop regulations to ban demersal longline fishing for pelagic management unit species in the Hawaii exclusive economic zone (EEZ). In 1998 and 1999, a fishing vessel from the U.S. mainland fished for sharks with a demersal longline in Hawaii in nearshore coastal waters. This type of longline fishing was not regulated by state and Federal regulations. Various Council advisory bodies found this type of longline fishing inappropriate for Hawaii but recognized that other islands in the western Pacific Region may wish to make use of this gear to exploit their shark stocks. Consequently, the Council was asked to ban its use in Hawaii, but not elsewhere in the region. A copy of the draft amendment is available from the Council office (see ADDRESSES).

11. Bottomfish Fisheries

A. Status of the fishery

B. Review of public scoping comments on EIS alternatives

C. Addition of CNMI and PRIA to FMP

D. New entry to Mau Zone

E. Public comment and scoping hearing on addition of fisheries off CNMI and PRIA to the FMP.

The Council intends to develop amendments to the Fishery Management Plan for the Bottomfish FMP, and the Precious Corals FMP. In developing these amendments, the Council will consider a range of alternatives and impacts for management of bottomfish, crustacean, and precious coral fisheries of the PRIA and the CNMI. The PRIAs are defined as Kingman Reef, Johnston Atoll, and Howland, Baker, Jarvis, Wake, Midway, and Palmyra islands. The Council is evaluating the need to amend the bottomfish, crustacean, and precious corals FMPs to better achieve the management objectives of these FMPs. Currently, no Federal regulations are in place to manage the bottomfish, crustacean, and precious coral fishery resources in the EEZ waters surrounding the CNMI. There are also no Federal regulations for the bottomfish and crustacean fisheries for the EEZ waters surrounding the PRIAs. The amendments will be developed by considering a wide range of management alternatives to address data shortfalls and possible impacts from the bottomfish, crustacean, and precious coral fisheries in the PRIAs and the CNMI. The Council seeks to solicit public comment and input on a wide range of management alternatives, including, but not limited to, the following: Federal permit and data reporting requirements; limited access; VMS; observer program; closed season; closed areas; gear restrictions; size limits; catch quotas; and prohibitions on the use of destructive fishing techniques, including the use of explosives, poisons, bottomset gill-nets, bottom trawls, and tangle nets.

12. Crustacean Fisheries

A. Status of the stocks

B. Harvest Guideline

C. Review of public scoping comments on EIS alternatives

D. Addition of the fisheries off the CNMI and PRIA to FMP

E. Status of state regulations for NWHI import license

F. Lawsuit to close lobster and bottomfish fisheries

G. Public comment and scoping hearing on addition of the fisheries off the CNMI and PRIA (see agenda item 11.E)

The Council intends to discuss the bank-specific harvest guidelines calculated by NMFS for the year 2000 lobster fishery in the NWHI, review new information presented by NMFS on the status of lobster stocks, and conservation and management issues raised by its advisory groups. In 1999, there was an estimated 20-30 percent decline in the NWHI exploitable lobster population (spiny and slipper lobster combined) based on commercial catch-per-unit-effort (CPUE) data. The overall drop is attributed to lower commercial CPUE in Area 4 which had a considerable increase in effort that was largely exploratory and unsuccessful. Between 1998 to 1999, the commercial CPUE in Area 4 lobster fishing grounds decline from 1.0 to 0.6. The Council will consider whether changes to the existing regulatory regime governing the NWHI crustacean fishery is needed, and if appropriate, may take action, possibly under FMP framework procedures, requesting NMFS to implement management measures. Alternative measures could include additional restrictions or a moratorium on lobster fishing NWHI-wide or at certain lobster fishing grounds.

13. Precious Corals

A. Status of the fishery

B. Status of framework amendment

C. Review of public scoping comments on EIS alternatives

D. Addition of the fisheries off the CNMI to FMP

E. Public scoping hearing on the EIS and public hearing on addition of the fisheries off the CNMI to FMP.

The Council intends to prepare an EIS on the Federal management of precious corals in the western Pacific Region. The scope of the EIS analysis will include all activities related to the conduct of the fisheries and will examine the impacts of precious coral harvest on, among other things, protected species. A summary of the current Federal management system for precious corals in the western Pacific Region will be reviewed during the public scoping hearing. A principal objective of the scoping and public input process is to identify a reasonable set of management alternatives that, with adequate analysis, will sharply define critical issues and provide a clear basis for choice among the alternatives. The intent of the EIS is to present an overall picture of the environmental effects of fishing as conducted under the FMP. The EIS will discuss the impacts of potential precious coral harvest on the human environment and consider a range of alternatives. Alternatives will be assessed for impacts on essential fish habitat, target and non-target species of fish, discarded fish, marine mammals (Hawaiian monk seals and cetaceans), and other protected species present in the Western Pacific ecosystem. In addition, the environmental consequences section will contain an analysis of socio-economic impacts of the fishery on the following groups of individuals: (1) Those who participate in harvesting the fishery resources and other living marine resources; (2) those who process and market the fish and fish products; (3) those who are involved in allied support industries; (4) those who consume fish products; (5) those who rely on living marine resources in the management area either for subsistence needs or for recreational benefits; (6) those who benefit from non-consumptive uses of living marine resources; (7) those involved in managing and monitoring fisheries; and (8) fishing communities. (Also see agenda item 11.E. for adding CNMI to the FMP)

14. Program Planning

A. Magnuson-Stevens Act changes

B. Report on program planning initiatives

C. AP modifications

D. WPacFIN

E. Fisheries Data Coordinating Committee

F. Recreational Fisheries Data Task Force

15. Administrative Matters

A. Administrative reports

B. Advisory body membership changes

C. Meetings and workshops

D. 103rd Council meeting

16. Other Business

A. Election of Council Officers

Although non-emergency issues not contained in this agenda may come before the Council for discussion, those issues may not be the subject of formal Council action during this meeting. Council action will be restricted to those issues specifically listed in this document and any issue arising after publication of this document that requires emergency action under section 305(c) of the Magnuson-Stevens Act, provided the public has been notified of the Council's intent to take final action to address the emergency.

Special Accommodations

These meetings are physically accessible to people with disabilities. Requests for sign language interpretation or other auxiliary aids should be directed to Kitty M. Simonds, 808-522-8220 (voice) or 808-522-8226 (fax), at least 5 days prior to the meeting date.

Authority: 1801 et seq.

Dated: February 11, 2000.
Bruce C. Morehead,
Acting Director, Office of Sustainable Fisheries, National Marine Fisheries Service.

[FR Doc. 00-3720 Filed 2-15-00; 8:45 am]

BILLING CODE 3510-22-F